SMALL BUSINESS ADMINISTRATION

[Disaster Declaration #20734 and #20735; SOUTH CAROLINA Disaster Number SC-20013]

Presidential Declaration Amendment of a Major Disaster for Public Assistance Only for the State of South Carolina

AGENCY: Small Business Administration.

ACTION: Amendment 2.

SUMMARY: This is an amendment of the Presidential declaration of a major disaster for Public Assistance Only for the State of South Carolina (FEMA-4829-DR), dated October 6, 2024.

Incident: Hurricane Helene.

DATES: Issued on October 24, 2024.

Incident Period: September 25, 2024, and continuing.

Physical Loan Application Deadline Date: December 5, 2024.

Economic Injury (EIDL) Loan Application Deadline Date: July 7, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of South Carolina, dated October 6, 2024, is hereby amended to include the following areas as adversely affected by the disaster.

Primary Counties:

Kershaw, Lancaster.

All other information in the original declaration remains unchanged.

(Catalog of Federal Domestic Assistance Number 59008)

Rafaela Monchek,
Deputy Associate Administrator, Office of Disaster Recovery & Resilience.

[FR Doc. 2024-25348 Filed 10-30-24; 8:45 am]

BILLING CODE 8026-09-P